DEPARTMENT OF THE INTERIOR

Minerals Management Service

30 CFR Part 251

RIN 1010-AD41

Geological and Geophysical (G&G) Explorations of the Outer Continental Shelf—Changing Proprietary Term of Certain Geophysical Information

AGENCY: Minerals Management Service (MMS), Interior.

ACTION: Proposed rule.

SUMMARY: The MMS proposes to extend the proprietary term of certain reprocessed geophysical information submitted to MMS under a permit. The proposed rule would give up to 5 years of additional protection to reprocessed vintage geophysical information that MMS retained and, under the current rule, is subject to release by MMS 25 years after issuing the germane permit. The extension would provide incentives to permittees and third parties to reprocess, market, or in other ways use geophysical information that may not otherwise be reprocessed without the term extension.

DATES: Submit comments by August 17, 2007. The MMS may not fully consider comments received after this date. Submit comments to the Office of Management and Budget (OMB) on the information collection burden in this proposed rule by July 18, 2007.

ADDRESSES: You may submit comments on the rulemaking by any of the following methods. Please use the Regulation Identifier Number (RIN) 1010-AD41 as an identifier in your message. See also Public Availability of Comments under Procedural Matters.

• Federal eRulemaking Portal: http://www.regulations.gov. Follow the instructions on the website for submitting comments.

• E-mail MMS at rules.comments@mms.gov. Use RIN 1010-AD41 in the subject line.

• Fax: 703-787-1546. Identify with the RIN, 1010-AD41.

• Mail or hand-carry comments to the Department of the Interior; Minerals Management Service; Attention: Regulations and Standards Branch (RSB); 381 Elden Street, MS-4024; Herndon, Virginia 20170-4817. Please reference “Changing Proprietary Term of Certain Geophysical Information, 1010-AD41” in your comments and include your name and return address.

• Send comments on the information collection in this rule to: Interior Desk Officer 1010-0048, Office of Management and Budget; 202-395-6566 (fax); e-mail: oira_docket@omb.eop.gov. Please also send a copy to MMS.

FOR FURTHER INFORMATION CONTACT: David Zinzer, Geophysicist, Offshore Minerals Management, Resource Evaluation Division, at (703) 787-1628 or e-mail david.zinzer@mms.gov.

SUPPLEMENTARY INFORMATION:

Summary of Proposed Rulemaking

The MMS proposes to extend, upon successful application to MMS, the proprietary term of geophysical information that a permittee or third party reprocessed 20 or more years after MMS issued the germane permit under which the originating data were collected. The proposed rule gives up to 5 years of additional protection to reprocessed vintage geophysical information that MMS retained and, under the current rule, is subject to release by MMS 25 years after issuing the permit. The extension would provide incentives to permittees and third parties to reprocess, market, or in other ways use geophysical information that may not otherwise be reprocessed without the term extension.

Industry Concerns With Previous Final Rulemaking

Final rulemaking at part 251 (71 FR 16033, March 30, 2006, effective date May 1, 2006) modified the start dates of proprietary terms for geophysical data and information and any derivatives of these data and information that MMS acquires for retention from permittees and third parties. The start dates changed from the date of submittal to the date of the permit under which the originating data were collected, retroactive to 1976.

The International Association of Geophysical Contractors (IAGC), in an April 21, 2006, letter to Director R.M. “Johnnie” Burton, mostly objected to changes that affect the proprietary term for reprocessed geophysical information. Before the May 1, 2006, rule changes, the derivative reprocessed information enjoyed its own new 25-year term, starting on the date of its submittal to MMS. After the May 1 changes, reprocessed information enjoyed the same 25-year term as the original information, starting on the date the germane permit was issued.

An example of IAGC's concerns is if before the May 1, 2006, changes, geophysical information derived from data collected under a 1985 permit were reprocessed and submitted to MMS for retention in January 2006, its proprietary term would expire in 2031 (2006 + 25). After the May 1, 2006, rule changes, the proprietary term of the reprocessed information submitted in January 2006, would expire in 2010 (1985 + 25). If the same information were to be submitted in 2011 or later, it would be subject to immediate public release, since the applicable 25-year term would have already expired.

The IAGC letter also stated that one permittee that is actively reprocessing vintage geophysical information derived from data collected in the Alaska Outer Continental Shelf (OCS) concluded that the May 1 changes to the rule will cost the permittee significant future revenue, as repeated global experience demonstrates that some clients will just wait for the new geophysical information to be handed to them for free in a short time (after release by MMS). Third parties who reprocess geophysical information acquired from permittees would also lose reprocessing investment opportunities for their geophysical information.

MMS Response to Industry Concerns

The MMS recognizes that industry invests significant capital in reprocessing geophysical information; however, the IAGC letter did not document or quantify costs to industry directly related to the May 1 changes to part 251. Furthermore, MMS rarely selects and retains minimally processed geophysical information, the type of reprocessed geophysical information that is of most interest and value to industry.

Permittees commonly offer licenses for geophysical information with application of only routine editing of field tapes and common processing and reprocessing techniques. Geophysical information at this early stage of the processing sequence is the most suitable and flexible for subsequent reprocessing. Many third parties prefer to apply their own advanced processing techniques to geophysical information licensed from permittees. Permittees will also further reprocess the information, applying advanced algorithms and other techniques, for license or sale.

However, as a matter of practice, MMS does not acquire minimally reprocessed geophysical information, as MMS does not have the capability to further process the information using advanced techniques. Moreover, MMS does not release geophysical information it does not acquire for retention, including valuable minimally processed geophysical information.

Most geophysical information submitted to and retained by MMS was reprocessed to or near the final stages of the processing sequence. This geophysical information is useful for viewing and merging with other types of information. However, it is basically not suitable for further processing and consequently of little interest or value to industry for that purpose when it is released to the public following expiration of its proprietary term.

Furthermore, most reprocessing by permittees or third parties occurs in the first few years of the 25-year proprietary term, not near the end of the term, when there is less time to sell, license, or otherwise make use of the reprocessed information.

Also cited in the IAGC letter is lost opportunity for MMS and the public interest to have vintage information made available in a format that can be meaningful using modern processing technologies. Industry submitted similar comments on changes put forth in the related notice of proposed rulemaking, published July 17, 2002 (67 FR 46942), which preceded the March 31, 2006, final rulemaking.

In some cases the confidentiality period is in effect shortened by more than 10 years. In such cases, more than 40 percent of the time over which one would expect to recover the initial investment and earn a return will be lost. For example, if geophysical information from a 1985 permit were submitted to MMS in 2002, the information would be released in 2027 (2002 + 25), a total term of protection of 42 years (1985-2027) under the previous rule. It would be released in 2010 under the current rule, a loss of 17 years (2027-2010), or 40 percent (17/42) of the 42-year term under the previous rule. Resetting the start date of the 25-year proprietary term to the date the permit is issued reduces the economic life of new geophysical information, and in effect reduces the return on investment in future non-exclusive seismic programs, stifling healthy competition and investment in new technologies and innovation. Value-added derivative products created when legacy (vintage) geophysical information is reprocessed, applying new technology and computer power, are becoming increasingly vital to the exploration and production process in the Gulf of Mexico.

The MMS notes that before the May 1, 2006, changes, reprocessed geophysical information could have in effect up to a 50-year proprietary term if it were submitted at the end of the initial 25-year term (25-year original term + 25-year new term). This would be virtually the same as the 50-year term for geophysical data and in sharp contrast to the proprietary terms for geophysical data and information submitted under a MMS lease (10 years or when the lease expires, whichever is sooner), or for geophysical information collected on the continental shelves of the United Kingdom, Australia, or Norway (2 to 10 years). The 25-year term, starting on the date of the permit, in the 2006 final rule was considered by MMS a reasonable amount of time for a permittee or third party to receive a fair return on investment in acquiring, processing, or reprocessing geophysical information.

Proposed Rulemaking Details

To address industry concerns regarding release of geophysical information reprocessed near the end of its 25-year term, MMS proposes in this rule to extend, upon successful application to MMS, the proprietary term for geophysical information for which reprocessing was completed in the last 5 years of its initial 25-year proprietary term, or thereafter. The term of geophysical information that was processed or reprocessed up to the 20th anniversary of the date of the germane permit is not affected by this proposed rulemaking.

Permittees and third parties may apply to MMS for an extension of the proprietary term, starting on the date of completion of reprocessing the geophysical information. The application must include:

• Name and address of the permittee or third party;

• Product name;

• Identification of the geophysical information-area;

• Identification of originating permit number and date;

• Description of reprocessing performed;

• Identification of the date of completion of reprocessing the geophysical information;

• Certification that the product meets the definition of processed geophysical information and that all other information in the application is accurate; and

• Signature and date.

If MMS disapproves the application for an extension, the Regional Director will state the reasons for the denial and will advise the applicant of changes needed to obtain approval. There will be a 1-year grace period, starting on the date that the final rule becomes effective, to allow permittees and third parties sufficient time to meet the above requirements and file separate applications for each extension. During this time, MMS will not release geophysical information which was reprocessed 20 or more years after MMS issued the germane permit.

After the 1-year grace period, MMS will resume releasing eligible reprocessed information. Also, in order to obtain an extension, permittees and third parties must apply for the extension within 30 days after the date of completion of the reprocessing. If an application is not filed, not filed on time, or if the application is not approved by MMS, the original 25-year proprietary term applies to the release date of the reprocessed geophysical information.

Procedural Matters

Public Availability of Comments

Before including your address, phone number, email address, or other personal identifying information in your comment, you should be aware that your entire comment—including your personal identifying information—may be made publicly available at any time. While you can ask us in your comment to withhold your personal identifying information from public review, we cannot guarantee that we will be able to do so.

Regulatory Planning and Review (Executive Order (E.O.) 12866)

This proposed rule is not a significant rule as determined by the OMB and is not subject to review under E.O. 12866.

(1) The proposed rule would not have an annual effect of $100 million or more on the economy. It would not adversely affect in a material way the economy, productivity, competition, jobs, the environment, public health or safety, or State, local, or tribal governments or communities.

The MMS estimates that over the first 5 years after the rule becomes effective, revenue generated by licensing or selling geophysical information reprocessed 20 or more years after MMS issued the germane permit and for which MMS extended the proprietary term, would be in a range from $3 million to $25 million over the period. More revenue would be generated in the first year during which there is a 1-year grace period to apply for extensions of proprietary terms of all eligible reprocessed information. In subsequent years, applications must be filed within 30 days of completion of processing.

The range of estimated values depends on the number of lease sales in areas where eligible vintage geophysical information exists, mostly in the Alaska OCS, the amount and quality of reprocessed geophysical information, and economic factors. MMS assumes 15 extensions would be approved over the 5-year period after the final rule is effective.

(2) The proposed rule would not create a serious inconsistency or otherwise interfere with an action taken or planned by another agency.

(3) The proposed rule would not alter the budgetary effects of entitlements, grants, user fees or loan programs, or the rights or obligations of their recipients.

(4) The proposed rule would not raise novel legal or policy issues.

Regulatory Flexibility Act (RFA)

The Department certifies that this proposed rule would not have a significant economic effect on a substantial number of small entities under the RFA (5 U.S.C. 601 et seq.).

This proposed rule would extend the proprietary term for vintage reprocessed geophysical information. The only entities affected by this proposed rule change are about 10 geophysical companies, if still in existence, whose reprocessed geophysical information being held by MMS may be released later than under current regulations. The Small Business Administration classifies geophysical surveying and mapping service companies under the North American Industry Classification System Code 541360. The criteria for determining a small entity for this classification code is annual receipts of less than $4.5 million. All of the 10 geophysical companies potentially affected by this proposed rule have annual receipts greater than $4.5 million; therefore, this proposed rule will not have a significant economic effect on a substantial number of small entities.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the actions of MMS, call 1-888-734-3247. You may comment to the Small Business Administration without fear of retaliation. Disciplinary action for retaliation by an MMS employee may include suspension or termination from employment with the DOI.

Small Business Regulatory Enforcement Fairness Act (SBREFA)

This proposed rule is not a major rule under the SBREFA (5 U.S.C. 804(2)). This proposed rule:

a. Would not have an annual effect on the economy of $100 million or more.

b. Would not cause a major increase in costs or prices for consumers, individual industries, Federal, State, or local government agencies, or geographic regions.

c. Would not have significant adverse effects on competition, employment, investment, productivity, innovation, or the ability of U.S.-based enterprises to compete with foreign-based enterprises. Leasing on the U.S. Outer Continental Shelf (OCS) is limited to residents of the U.S. or companies incorporated in the U.S. The proposed rule would not change that requirement.

Unfunded Mandates Reform Act (UMRA)

This proposed rule would not impose an unfunded mandate on State, local, or tribal governments or the private sector of more than $100 million per year. The proposed rule would not have a significant or unique effect on State, local or tribal governments or the private sector. A statement containing the information required by the UMRA (2 U.S.C. 1531 et seq.) is not required. This is because the proposal would not affect State, local, or tribal governments, and the effect on the private sector is small.

Takings Implication Assessment (Executive Order 12630)

This proposed rule is not a governmental action capable of interference with constitutionally protected property rights. Thus, MMS did not need to prepare a Takings Implication Assessment according to E.O. 12630, Governmental Actions and Interference with Constitutionally Protected Property Rights.

Federalism (Executive Order 13132)

With respect to E.O. 13132, this proposed rule would not have federalism implications. This proposed rule would not substantially and directly affect the relationship between the Federal and State governments. To the extent that State and local governments have a role in OCS activities, this proposed rule would not affect that role.

Civil Justice Reform (Executive Order 12988)

With respect to E.O. 12988, The Office of the Solicitor has determined that the proposed rule does not unduly burden the judicial system and does meet the requirements of sections 3(a) and 3(b)(2) of the Order.

Paperwork Reduction Act (PRA)

This proposed rule contains a collection of information that is being submitted to OMB for review and approval under § 3507(d) of the PRA. As part of our continuing effort to reduce paperwork and respondent burdens, MMS invites the public and other Federal agencies to comment on any aspect of the reporting and recordkeeping burden. If you wish to comment on the information collection aspects of revised 30 CFR 251, you may send your comments directly to OMB (see the ADDRESSES section of this notice). Please identify your comments with 1010-0048. Send a copy of your comments to the Regulations and Standards Branch, Attn: Comments; 381 Elden Street, MS-4024; Herndon, Virginia 20170-4817. You may obtain a copy of our submission to OMB to revise and extend the OMB approval for 1010-0048 by contacting the Bureau's Information Collection Clearance Officer at (202) 208-7744.

The PRA provides that an agency may not conduct or sponsor, and a person is not required to respond to, a collection of information unless it displays a currently valid OMB control number. OMB is required to make a decision concerning the collection of information contained in these proposed regulations between 30 to 60 days after publication of this document in the Federal Register. Therefore, a comment to OMB is best assured of having its full effect if OMB received it by July 18, 2007. This does not affect the deadline for the public to comment to MMS on the proposed regulations.

The title of the collection of information for the rule is “30 CFR 251, Geological and Geophysical (G&G) Explorations of the Outer Continental Shelf.”

Respondents for this rulemaking include approximately 10 Federal OCS permittees. Responses to this collection are mandatory and required for a benefit. The frequency of reporting is on occasion. The proposed new requirement allows permittees and third parties to apply for an extension of the 25-year proprietary term within 30 days after the date of completion of the reprocessing. MMS will protect proprietary information according to the Freedom of Information Act (5 U.S.C. 552) and its implementing regulations (43 CFR part 2), the Federal Oil and Gas Royalty Management Act of 1982 (30 U.S.C. 1733), and under regulations at 30 CFR parts 250, 251, and 252. The information collection (IC) does not include questions of a sensitive nature.

The collection of information required by the current subpart 30 CFR 251 regulations is approved under OMB Control Number 1010-0048 (expiration 7/31/09). The proposed rule imposes a new requirement to the information collection for 3 burden hours. Once the rulemaking becomes effective, the new burden hours will be incorporated into the existing information collection. Refer to the chart for the current and proposed burden.

Current 30 CFR 251 proposed | Reporting and recordkeeping requirement | Hour burden | Average number of annual responses | Annual burden hours
| Fee
Form
251.4(a), (b); 251.5(a), (b), (d); 251.6; 251.7 | Apply for permits (form MMS-327) to conduct G&G exploration, including deep stratigraphic tests/revisions when necessary | 6 | 110 Applications | 660
|  | 110 applications × $1,900 fee = $209,000
| Subtotal | 110 responses |  | 660
|  | $209,000
General
251.4(b); 251.5(c), (d); 251.6 | File notices to conduct scientific research activities, including notice to MMS prior to beginning and after concluding activities | 6 | 4 Notices | 24
251.6(b) 251.7(b)(5) | Notify MMS if specific actions should occur; report archaeological resources. (No instances reported since 1982.) | 1 | 1 Notice | 1
251.7(c) | Enter into agreement for group participation in test drilling, including publishing summary statement; provide MMS copy of notice/list of participants. (No agreements submitted since 1989.) | 1 | 1 Agreement | 1
251.9(c) | Notify MMS to relinquish a permit | ½ | 8 Notices | 4
251.10(c) | File appeals | Not subject to the PRA. |  | 0
251.1-251.14 | General departure and alternative compliance requests not specifically covered elsewhere in part 251 regulations | 2 | 1 Request | 2
Permit Form (Form MMS-327) | Retain G&G data/information for 10 years and make available to MMS upon request | 1 | 100 Recordkeepers | 100
| Subtotal | 115 responses |  | 132
Submissions
251.7 | Submit information on test drilling activities under a permit, including Form MMS-123 | Burden included under 1010-0141. |  | 0
251.7(d) | Submit bond(s) on deep stratigraphic test | Burden included under 30 CFR part 256 (1010-0006). |  | 0
251.8(b), (c) | Submit modifications to, and status/final reports on, activities conducted under a permit | 2 | 55 Respondents × 4 Reports = 220 | 440
251.11; 251.12 | Notify MMS and submit G&G data information collected under a permit and/or processed by permittees or 3rd parties, including reports, logs or charts, results analyses, descriptions, etc | 4 | 50 Submissions | 200
251.14(a) | Submit comments on MMS intent to disclose data/info. to the public | 1 | 1 Comment | 1
251.14(c)(2) | Submit comments on MMS intent to disclose data/info. to an independent contractor/agent | 1 | 1 Comment | 1
251.14(c)(4) | Contractor/agent submits written commitment not to sell, trade, license, or disclose data/info. without MMS consent | 1 | 1 Commitment | 1
| Subtotal | 273 responses |  | 643
Requests
251.8(a) | Request reimbursement for certain costs associated with MMS inspections. (No requests in many years. OCS Lands Act requires Government reimbursement.) | 1 | 1 Request | 1
251.13 | Request reimbursement for certain costs associated with reproducing data/information | 2 | 50 Submissions | 100
Permit Form (MMS-327); 251.14(b)(3) | Request extension of time period for permitted activities. | 1 | 50 Extensions | 50
| Subtotal | 101 responses |  | 151
Extension
251.14(b)(1), (2), (5) | Permittees and 3rd parties apply for extension for geophysical information within 30 days after reprocessing completion date | 1 | 3 Extensions | 3
| Subtotal | 3 responses |  | 3
Total Hour and Fee Burden |  |  | 599 | 1,586
|  |  | 602 | 1,589
|  |  | $209,000 Fee

The MMS specifically solicits comments on the following questions:

(1) Is the collection of information necessary for MMS to properly perform its functions, and will it be useful?

(2) Are the estimates of the burden hours of the collection reasonable?

(3) Do you have any suggestions that would enhance the quality, clarity, or usefulness of the information to be collected?

(4) Is there a way to minimize the information collection burden on those who are to respond, including the use of appropriate automated electronic, mechanical, or other forms of information technology?

In addition, the PRA requires agencies to estimate the total annual reporting and recordkeeping “non-hour cost” burden resulting from the collection of information. Other than the cost recovery fee listed in current regulations at § 251.5, we have not identified any other costs, and we solicit your comments. For reporting and recordkeeping only, your response should split the cost estimate into two components: (1) Total capital and startup cost component, and (2) annual operation, maintenance, and purchase of services components. Your estimates should consider the costs to generate, maintain, disclose or provide the information. You should describe the methods you use to estimate major cost factors including system and technology acquisition, expected useful life of capital equipment, discount rate(s), and the period over which you incur costs. Capital and start-up costs include, among other items, computers and software you purchase to prepare for collecting information; monitoring, sampling, drilling, and testing equipment; and record storage facilities. Generally, our estimates should not include equipment or services purchased: Before October 1, 1995; to comply with requirements not associated with the information collection; for reasons other than to provide information or keep records for the Government; or as part of customary and usual business or private practices.

National Environmental Policy Act (NEPA) of 1969

This rule does not constitute a major Federal action significantly affecting the quality of the human environment. MMS has analyzed this proposed rule under the criteria of the NEPA and 516 Departmental Manual 6, Appendix 10.4C(1). MMS completed a Categorical Exclusion Review for this action and concluded that “the rulemaking does not represent an exception to the established criteria for categorical exclusion; therefore, preparation of an environmental analysis or environmental impact statement will not be required.”

Energy Supply, Distribution, or Use (Executive Order 13211)

Executive Order 13211 requires the agency to prepare a Statement of Energy Effects when it takes a regulatory action that is identified as a significant energy action. This proposed rule is not a significant energy action, and therefore would not require a Statement of Energy Effects because it:

a. Is not a significant regulatory action under E.O. 12866,

b. Is not likely to have a significant adverse effect on the supply, distribution, or use of energy, and

c. Has not been designated by the Administrator of the Office of Information and Regulatory Affairs, OMB, as a significant energy action.

Consultation With Indian Tribes (Executive Order 13175)

Under the criteria in E.O. 13175, we have evaluated this proposed rule and determined that it has no potential effects on federally recognized Indian tribes. There are no Indian or tribal lands in the OCS.

Clarity of This Regulation

Executive Order 12866 requires each agency to write regulations that are easy to understand. MMS invites your comments on how to make this proposed rule easier to understand, including answers to questions such as the following:

(1) Are the requirements in the rule clearly stated?

(2) Does the rule contain technical language or jargon that interferes with its clarity?

(3) Does the format of the rule (grouping and order of sections, use of headings, paragraphing, etc.) aid or reduce its clarity?

(4) Is the description of the proposed rule in the SUPPLEMENTARY INFORMATION section of this preamble helpful in understanding the rule? What else can MMS do to make the rule easier to understand?

Send a copy of any comments that concern how MMS could make this rule easier to understand to: Office of Regulatory Affairs, Department of the Interior, Room 7229, 1849 C Street, NW., Washington, DC 20240. You may also e-mail the comments to this address: Exsec@ios.doi.gov.

List of Subjects in 30 CFR Part 251

Continental shelf, Freedom of information, Oil and gas exploration, Public lands—mineral resources, Reporting and recordkeeping requirements, Research.

Dated: June 1, 2007.
C. Stephen Allred,
Assistant Secretary—Land and Minerals Management.

For the reasons stated in the preamble, MMS proposes to amend 30 CFR part 251 as follows:

PART 251—GEOLOGICAL AND GEOPHYSICAL (G&G) EXPLORATIONS OF THE OUTER CONTINENTAL SHELF

1. The authority citation for part 251 continues to read as follows:

Authority: 43 U.S.C. 1331 et seq., 31 U.S.C. 9701.

2. Amend § 251.14 as set forth below:

A. Revise the introductory text in paragraph (b);

B. Revise the table in paragraph (b)(1);

C. Redesignate paragraphs (b)(2) and (b)(3) as (b)(6) and (b)(7), respectively; and

D. Add new paragraphs (b)(2), (b)(3), (b)(4), and (b)(5) to read as follows:

§ 251.14 Protecting and disclosing data and information submitted to MMS under a permit.

* * * * *

(b) Timetable for release of G&G data and information related to oil, gas, and sulphur that MMS acquires. Except for high-resolution data and information released under 30 CFR 250.197(b)(2), MMS will release or disclose acquired data and information in accordance with paragraphs (b)(1) through (b)(7) of this section.

(1) * * *

If you or a third party submit and MMS retains . . . | The Regional Director will release them to the public . . .
(i) Geological data and information | 10 years after MMS issued the permit.
(ii) Geophysical data | 50 years after MMS issued the permit.
(iii) Geophysical information reprocessed less than 20 years after MMS issued the germane permit | 25 years after MMS issued the permit.
(iv) Geophysical information reprocessed 20 or more years after MMS issued the germane permit | 25 years after MMS issued the permit; or, if you or a third party applied for an extension of the proprietary term, 5 years after MMS approved the application.

(2) Permittees and third parties may apply to MMS for an extension of the 25-year proprietary term for geophysical information reprocessed 20 or more years after MMS issued the germane permit. You must submit the application to MMS within 30 days after completion of the reprocessing, except during the initial 1-year grace period as provided in paragraph (b)(3) of this section. Filing locations are listed in § 251.5(d). Your application must include:

(i) Name and address of the permittee or third party;

(ii) Product name;

(iii) Identification of the geophysical information-area;

(iv) Identification of originating permit number and date;

(v) Description of reprocessing performed;

(vi) Identification of the date of completion of reprocessing the geophysical information;

(vii) Certification that the product meets the definition of processed geophysical information and that all other information in the application is accurate; and

(viii) Signature and date.

(3) There will be a 1-year grace period, starting [EFFECTIVE DATE OF THE FINAL RULE], to allow permittees and third parties sufficient time to meet the above requirements and to apply for all eligible extensions. During this time, MMS will not release geophysical information which was reprocessed 20 or more years after the date that MMS issued the germane permit.

(4) After [DATE 1 YEAR AFTER EFFECTIVE DATE OF THE FINAL RULE], MMS will resume releasing eligible reprocessed information. If an application for extension is not filed, not filed on time, or not approved by MMS, the original 25-year proprietary term applies to the release date of the reprocessed geophysical information.

(5) You may apply for multiple extensions related to the same permit; however, the maximum proprietary term for geophysical information is 50 years after MMS issued the permit.

* * * * *

[FR Doc. 07-2960 Filed 6-15-07; 8:45 am]

BILLING CODE 4310-MR-P